DEPARTMENT OF ENERGY

Federal Energy Regulatory Commission

[Docket No. EC04-26-000, et al.]

Milford Power Company, LLC, et al.; Electric Rate and Corporate Filings

November 26, 2003.

The following filings have been made with the Commission. The filings are listed in ascending order within each docket classification.

1. Milford Power Company, LLC

[Docket No. EC04-26-000]

Take notice that on November 21, 2003, Milford Holdings LLC (MH LLC) and El Paso Milford Power I Company, LLC and El Paso Merchant Energy North America Company (El Paso Entities and collectively with MH LLC, Applicants) filed with the Federal Energy Regulatory Commission an application, pursuant to section 203 of the Federal Power Act, and part 33 of the Commission's regulations, seeking authorization for the transfer of ninety-five (95) percent of the membership interests of Milford Power Company, LLC owned by the El Paso Entities from the El Paso Entities to MH LLC. The applicants request expedited consideration of the application.

Comment Date: December 12, 2003.

2. Exelon Generation Company, LLC and Exelon Energy Company

[Docket No. EC04-27-000]

Take notice that on November 21, 2003, Exelon Generation Company, LLC and Exelon Energy Company (Applicants) filed with the Federal Energy Regulatory Commission an application, pursuant to Section 203 of the Federal Power Act for authorization to implement a corporate reorganization. Applicants state that Exelon Energy's ownership will be transferred from Exelon Enterprises Company, LLC to Exelon Generation Company, LLC. Applicants further state that the corporate reorganization will have no adverse effect on competition, rates or regulation. Applicants request expedited consideration of the application.

Comment Date: December 12, 2003.

3. Consolidated Edison Company of New York, Inc.

[Docket No. EC04-28-000]

Take notice that on November 24, 2003, Consolidated Edison Company of New York, Inc. filed an application, pursuant to section 203 of the Federal Power Act for authorization to purchase, acquire or take unsecured evidences of indebtedness of its affiliate Orange and Rockland Utilities, Inc., maturing not more than twelve months after their date of issue up to an amount not in excess of $150 million at any one time outstanding.

Comment Date: December 15, 2003.

4. California Power Exchange Corporation

[Docket No. EL04-28-000]

Take notice that on November 24, 2003, the California Power Exchange Corporation (CalPX) filed a Petition for Declaratory Order. The petition requests Commission approval for CalPX to enter into a settlement between and among CalPX, Southern California Edison Company and San Diego Gas & Electric Company regarding a billing dispute and participant account summaries. CalPX filed a petition for waiver of the filing fee for the Petition for Declaratory Order.

Comment Date: December 15, 2003.

5. White River Electric Association, Inc.

[Docket No. ER02-2001-000]

Take notice that on July 30, 2003, White River Electric Association, Inc., filed a Request for Waiver of the Order No. 2001 requirement to file Electric Quarterly Reports.

Comment Date: December 16, 2003.

6. Covanta Union, Inc.

[Docket No. ER02-2001-000]

Take notice that on July 30, 2003, Covanta Union, Inc., filed a Request for Waiver of the Order No. 2001 requirement to file Electric Quarterly Reports.

Comment Date: December 16, 2003.

7. Sun River Electric Cooperative, Inc.

[Docket No. ER02-2001-000]

Take notice that on July 30, 2003, Sun River Electric Cooperative, Inc. filed a Request for Waiver of the Order No. 2001 requirement to file Electric Quarterly Reports.

Comment Date: December 16, 2003.

8. New York State Electric & Gas Corporation

[Docket No. ER03-587-006]

Take notice that New York State Electric & Gas Corporation (NYSEG) on November 20, 2003, tendered for filing, in compliance with the Commission's order issued April 29, 2003 in Docket No. ER03-587-000, FERC Rate Schedule 105, an agreement between NYSEG and Connecticut Light & Power Company.

Comment Date: December 11, 2003.

9. New York State Electric & Gas Corporation

[Docket No. ER03-587-007]

Take notice that New York State Electric & Gas Corporation (NYSEG) on November 20, 2003, tendered for filing in compliance with the Commission's order issued April 28, 2003 in Docket No. ER03-587-000, FERC Rate Schedule 27, an agreement between NYSEG and Massachusetts Electric Company.

Comment Date: December 11, 2003.

10. Xcel Energy Services Inc.

[Docket No. ER04-211-000]

Take notice that on November 20, 2003, Xcel Energy Services, Inc. (XES), on behalf of Southwestern Public Service Company (SPS), submitted for filing a Brokering Agreement for Excess Energy (Agreement) between Southwestern Public Service Company and Otter Tail Power Company. XES requests that the Agreement become effective October 16, 2003.

Comment Date: December 11, 2003.

11. United States Department of Energy and Bonneville Power Administration

[Docket No. NJ03-3-001]

Take notice that on November 20, 2003, Bonneville Power Administration filed a Compliance Filing and Motion for Clarification along with a revised Open Access Transmission Tariff regarding, and in accordance with, the Order Granting Petition for Declaratory Order, Subject to the Filing of Tariff Modifications, and Granting Exemption from Filing Fee, 105 FERC ¶ 61,077, issued in this proceeding on October 21, 2003.

Comment Date: December 11, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Linda Mitry,
Acting Secretary.

[FR Doc. E3-00440 Filed 12-2-03; 8:45 a.m.]

BILLING CODE 6717-01-P